DEPARTMENT OF TRANSPORTATION

Federal Highway Administration

Environmental Impact Statement: San Bernardino and Los Angeles Counties, CA

AGENCY: Federal Highway Administration (FHWA), DOT.

ACTION: Notice of Intent.

SUMMARY: The FHWA, on behalf of the California Department of Transportation (Caltrans), is issuing this notice to advise the public that a Draft Environmental Impact Statement (EIS) will be prepared for a proposed highway project in San Bernardino and Los Angeles Counties, California.

DATES: The public scoping meetings will be held on the following dates:

(1) Tuesday, November 13, 2012 from 5-7 p.m.

(2) Thursday, November 15, 2012 from 5-7 p.m.

The final day to submit comments is Monday, November 26, 2012.

ADDRESSES: The two public scoping meetings will be held at the following locations.

(1) Hilton San Bernardino, 285 East Hospitality Lane, San Bernardino, California 92408

(2) Sheraton Ontario Airport Hotel, 429 North Vineyard Avenue, Ontario, California 91764

FOR FURTHER INFORMATION CONTACT: Aaron Burton, Branch Chief, California Department of Transportation, District 8—Environmental Studies `B' Branch Chief, 464 West 4th Street, MS-829, San Bernardino, CA 92401-1400; or call (909) 383-2841mailto:. Comments on the proposed project can be submitted online at: http://sanbag.ca.gov/projects/mi_fwy_I-10-Corridor.html.

SUPPLEMENTARY INFORMATION: Effective July 1, 2007, the Federal Highway Administration (FHWA) assigned, and the California Department of Transportation (Caltrans) assumed, environmental responsibilities for this project pursuant to 23 U.S.C. 327. Caltrans as the assigned National Environmental Policy Act (NEPA) agency, in cooperation with San Bernardino Associated Governments (SANBAG) will prepare a draft Environmental Impact Statement on a proposal for a highway improvement project in San Bernardino County, California. The proposed Interstate 10 (I-10) Corridor Project consists of improvements and widening along an existing 35-mile segment of the I-10 freeway mainline. The proposed project would also involve improvement of existing bridges and freeway ramps. The following alternatives are being considered:

Alternative 1: No Build (No Action)

Alternative 2: One High Occupancy Vehicle Lane In Each Direction

Alternative 3: Two Express Lanes In Each Direction

The proposed project would widen the I-10 corridor from approximately 2 miles west of the Los Angeles/San Bernardino County line in the City of Pomona (Post Mile 46.12) to Ford Street in the City of Redlands (Post Mile 33.80). It is anticipated that the proposed project will require a Clean Water Act Section 404 permit, a Section 408 permit, a Section 4(f) De Minimis Finding, an Endangered Species Act Section 7 Incidental Take Authorization (Biological Opinion) and Section 106 Finding of Effect Determination.

Letters describing the proposed action and soliciting comments will be sent to appropriate Federal, State, Participating Agencies, local agencies, and to private organizations and citizens who have previously expressed or are known to have interest in this proposal. Interested tribal governments will be involved as determined by consultation with the Native American Heritage Commission.

Public scoping meetings will be held on the following dates and locations:

(1) Tuesday, November 13, 2012 from 5-7 p.m. at the Hilton San Bernardino, 285 East Hospitality Lane, San Bernardino, California 92408

(2) Thursday, November 15, 2012 from 5-7 p.m. at the Sheraton Ontario Airport Hotel, 429 North Vineyard Avenue, Ontario, California 91764

In addition, a public hearing will be held. Public notice will be given of the time and place of the meetings and hearing. The draft EIS will be available for public and agency review and comment prior to the public hearing.

To ensure that the full range of issues related to this proposed action are addressed and all significant issues identified, comments, and suggestions are invited from all interested parties. Comments or questions concerning this proposed action and the EIS should be directed to Caltrans at the address provided above or online at the I-10 Corridor Project Web site at: http://sanbag.ca.gov/projects/mi_fwy_I-10-Corridor.html.

(Catalog of Federal Domestic Assistance Program Number 20.205, Highway Planning and Construction. The regulations implementing Executive Order 12372 regarding intergovernmental consultation on Federal programs and activities apply to this program.)

Issued on: October 18, 2012.
David Bricker,
Deputy District Director, District 8, Division of Environmental Planning, California Department of Transportation.

[FR Doc. 2012-26894 Filed 11-2-12; 8:45 am]

BILLING CODE 4910-22-P